ENVIRONMENTAL PROTECTION AGENCY

[FRL-6881-6]

Agency Information Collection Activities: Submission for OMB Review; Comment Request; EPA Information Collection Request; The 2001 Hazardous Waste Report (Biennial Report)

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: The 2001 Hazardous Waste Report (Biennial Report), EPA ICR Number 0976.10; OMB Control Number 2050-0024. This ICR replaces The 1999 Hazardous Waste Report (Biennial Report), EPA ICR Number 0976.09, which expires on November 30, 2000. The ICR describes the nature of the information collection and its expected burden and cost; where appropriate, it includes the actual data collection instrument.

EPA is also submitting to OMB for review modifications to the Notification of Regulated Waste Activity ICR, 262.12, OMB Control Number 2050-0028, expiration date 12/31/02; and the RCRA Part A Permit Application ICR, 262.09, OMB Control Number 2050-0034, expiration date 10/31/02. The actual changes to these two ICRs will be implemented later. These modifications show how the Agency plans to harmonize the site profile information currently collected on these forms and the Biennial Report Information and Certification form.

DATES: Comments must be submitted on or before November 6, 2000.

ADDRESSES: Send comments, referencing EPA ICR No. 0976.10 to the following addresses: Sandy Farmer, U.S. Environmental Protection Agency, Collection Strategies Division (Mail Code 2822), 1200 Pennsylvania Avenue, N.W., Washington, DC 20460; and to Office of Information and Regulatory Affairs, Office of Management and Budget (OMB), Attention: Desk Officer for EPA, 725 17th Street, N.W., Washington, DC 20503.

FOR FURTHER INFORMATION CONTACT: Contact Sandy Farmer at EPA by phone at (202) 260-2740, by e-mail at farmer.sandy@epamail.epa.gov, or download off the Internet at http://www.epa.gov/icr and refer to EPA ICR No. 0976.10.

SUPPLEMENTARY INFORMATION: Title: The 2001 Hazardous Waste Report (Biennial Report), EPA ICR Number 0976.10; OMB Control Number 2050-0024. This is a request for an extension of a currently approved collection.

Abstract: Large quantity generators of hazardous waste and owners/operators of hazardous waste facilities must complete, under the authority of RCRA sections 3002 and 3004, a report every other year on the amount of waste they generate and how it was managed. EPA uses the information to understand waste management practices, to expand its database of information for rulemakings, and to monitor compliance with regulatory requirements.

An agency may not conduct or sponsor, and a person is not required to respond to, a collection of information unless it displays a currently valid OMB control number. The OMB control numbers for EPA's regulations are listed in 40 CFR part 9 and 48 CFR Chapter 15. The Federal Register Notice required under 5 CFR 1320.8(d), soliciting comments on this collection of information was published June 23, 2000 (65 FR 39142). We are implementing all of the recommendations described in the June 23, 2000 notice. Nine comments were received on the June Notice, including a comment from the Tribal Association on Solid Waste and Emergency Response (TASWER). TASWER asked that a data element be added to the Biennial Report that would identify RCRA facilities on or adjacent to Indian Country and Alaska Native Villages. We have begun discussions with TASWER to see how their information needs might be met by the Biennial Report or other means. However, this process cannot be completed in time to make changes to the 2001 Biennial Report.

Burden Statement: The annual public reporting and recordkeeping burden for this collection of information is estimated to average 19.49 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Large Quantity Generators and Treatment, Storage, and Disposal Facilities.

Estimated Number of Respondents: 10,157.

Frequency of Response: Biennially.

Estimated Total Annual Hour Burden: 195,214 hours.

Estimated Total Annualized Capital, O&M Cost Burden: $26,000.

Send comments on the Agency's need for this information, the accuracy of the provided burden estimates, and any suggested methods for minimizing respondent burden, including through the use of automated collection techniques to the following addresses listed above.

Please refer to EPA ICR No. 0976.10 and OMB Control No. 2050-0024 in any correspondence.

Dated: September 28, 2000.
Oscar Morales,
Director, Collection Strategies Division.

[FR Doc. 00-25605 Filed 10-4-00; 8:45 am]

BILLING CODE 6560-50-P